DEPARTMENT OF COMMERCE

National Oceanic and Atmospheric Administration

RIN 0648-XH90

Fisheries of the South Atlantic, Gulf of Mexico, and Caribbean; Southeastern Data, Assessment, and Review (SEDAR) Steering Committee; Public Meeting

AGENCY: National Marine Fisheries Service (NMFS), National Oceanic and Atmospheric Administration (NOAA), Commerce.

ACTION: Notice of SEDAR Steering Committee Meeting.

SUMMARY: The SEDAR Steering Committee will meet via conference call to discuss assessment updates to be completed during 2009. See SUPPLEMENTARY INFORMATION.

DATES: The SEDAR Steering Committee will meet on Tuesday, June 10, 2008, from 12 noon to 1 p.m.

ADDRESSES: The meeting will be held via conference call. See SUPPLEMENTARY INFORMATION for available listening stations.

FOR FURTHER INFORMATION CONTACT: John Carmichael, Science and Statistics Program Manager, SAFMC, 4055 Faber Place, Suite 201, North Charleston, SC 29405; telephone: (843) 571-4366 or toll free (866) SAFMC-10; fax: (843) 769-4520.

SUPPLEMENTARY INFORMATION: Listening stations are available at the following locations:

1. South Atlantic Fishery Management Council, 4055 Faber Place Drive #201, North Charleston, SC 29405;

2. Gulf of Mexico Fishery Management Council, 2203 North Lois Avenue, Suite 1100, Tampa, FL 33607; and

3. Caribbean Fishery Management Council, 268 Munoz Rivera Ave., Suite 1108, San Juan, Puerto Rico 00918.

The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process, establishes assessment priorities, and provides coordination of assessment and management activities.

During this conference call the Steering Committee will follow-up on activities from its May 5, 2008 meeting to finalize assessment update priorities for 2009.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to the South Atlantic Fishery Management Council office at the address listed above at least 10 business days prior to the meeting.

Dated: May 9, 2008.
Tracey L. Thompson,
Acting Director, Office of Sustainable Fisheries, National Marine Fisheries Service.

[FR Doc. E8-10719 Filed 5-13-08; 8:45 am]

BILLING CODE 3510-22-S